DEPARTMENT OF JUSTICE

Federal Bureau of Investigation

[OMB Number 1110-0052]

Agency Information Collection Activities; Proposed eCollection eComments Requested; Revision of a Currently Approved Collection; Identity History Summary Request Form (1-783)

AGENCY: Criminal Justice Information Services Division, Federal Bureau of Investigation, Department of Justice.

ACTION: 60-Day notice.

SUMMARY: Department of Justice (DOJ), Federal Bureau of Investigation (FBI), Criminal Justice Information Services (CJIS) Division will be submitting the following information collection request to the Office of Management and Budget (OMB) for review and approval in accordance with the Paperwork Reduction Act of 1995.

DATES: The DOJ encourages public comment and will accept input until June 5, 2023.

FOR FURTHER INFORMATION CONTACT: If you have additional comments especially on the estimated public burden or associated response time, suggestions, or need a copy of the proposed information collection instrument with instructions or additional information, please contact Larry E. Cotton-Zinn, Management and Program Analyst, FBI, CJIS, Criminal History Information and Policy Unit, BTC-3, 1000 Custer Hollow Road; Clarksburg, WV 26306; phone: 304-625-5590 or email fbi-iii@fbi.gov.

SUPPLEMENTARY INFORMATION: Written comments and suggestions from the public and affected agencies concerning the proposed collection of information are encouraged. Your comments should address one or more of the following four points:

➣ Evaluate whether the proposed collection of information is necessary for the proper performance of the functions of the DOJ FBI CJIS Division, including whether the information will have practical utility;

➣ Evaluate the accuracy of the agency's estimate of the burden of the proposed collection of information, including the validity of the methodology and assumptions used;

➣ Evaluate whether and if so how the quality, utility, and clarity of the information to be collected can be enhanced; and

➣ Minimize the burden of the collection of information on those who are to respond, including through the use of appropriate automated, electronic, mechanical, or other technological collection techniques or other forms of information technology, e.g., permitting electronic submission of responses.

Overview of This Information Collection

1. Type of Information Collection: Revision of a currently approved collection.

2. Title of the Form/Collection: Identity History Summary Request Form.

3. Agency form number, if any, and the applicable component of the Department sponsoring the collection: 1110-0052, Form 1-783 Identity History Summary Request Form; CJIS Division, FBI, DOJ.

4. Affected public who will be asked or required to respond, as well as a brief abstract: Primary: Individuals interested in obtaining a copy of their identification record contained in the FBI's Next Generation Identification System. The U.S. Department of Justice Order 556-773 directs the FBI to publish rules for the dissemination of arrest and conviction records to the subjects of such records upon request. This order resulted in a determination that 28 United States Code 534 does not prohibit the subjects of arrest and convictions records from having access to those records.

5. An estimate of the total number of respondents and the amount of time estimated for an average respondent to respond: It is estimated the time it takes to process the 1-783 is five minutes. The BSS estimates 86,707 respondents yearly.

6. An estimate of the total public burden (in hours) associated with the collection: With 86,707 applicants responding, the formula for applicant burden hours would be as follows: (86,707 respondents divided by 12 per hour) = 7,226 hours.

If additional information is required contact: John R. Carlson, Assistant Director, United States Department of Justice, Justice Management Division, Policy and Planning Staff, Two Constitution Square, 145 N Street NE, Suite 3E.405B, Washington, DC 20530.

Dated: 31 March 2023.
John R. Carlson,
Department Clearance Officer for PRA, U.S. Department of Justice.

[FR Doc. 2023-07108 Filed 4-4-23; 8:45 am]

BILLING CODE 4410-AT-P